DEPARTMENT OF THE INTERIOR

National Park Service

[NPS-WASO-NAGPRA-NPS0030349; PPWOCRADN0-PCU00RP14.R50000]

Notice of Inventory Completion: Field Museum of Natural History, Chicago, IL

AGENCY: National Park Service, Interior.

ACTION: Notice.

SUMMARY: The Field Museum of Natural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Field Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Field Museum of Natural History at the address in this notice by July 10, 2020.

ADDRESSES: Helen Robbins, Field Museum of Natural History, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3003, of the completion of an inventory of human remains under the control of the Field Museum of Natural History, Chicago, IL. The human remains were removed from Tappan's Island, Lincoln County, ME, and Whaleback Midden, Lincoln County, ME.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Field Museum of Natural History professional staff in consultation with representatives of the following Indian Tribes belonging to the Wabanaki Confederacy: the Aroostook Band of Micmacs (previously listed as Aroostook Band of Micmac Indians); Houlton Band of Maliseet Indians; Passamaquoddy Tribe; and the Penobscot Nation (previously listed as Penobscot Tribe of Maine)(hereafter referred to as “The Consulted Tribes”).

History and Description of the Remains

Sometime in the 1880s or 1890s, human remains representing, at minimum, two individuals were removed from shell heaps near the Damariscotta River in Lincoln County, ME, by Fellows Knowlton. Knowlton's collection of archeological material from shell middens was sent to the Field Museum of Natural History by his son, James E Knowlton, in February of 1894. Neither set of remains was identified as human due to their fragmentary nature until 2008. Both individuals were grouped by Knowlton with faunal remains from the sites, and they were subsequently cataloged as faunal when they were accessioned. No known individuals were identified. No associated funerary objects are present.

One individual, represented by Field Museum catalog #49781, was removed from Tatman's Island (alternate spellings include Tappan's, Datman's, Tattan's, and Tatmares). Objects from the same assemblage suggest that the human remains most likely date to the post-contact period. The human remains are culturally affiliated to the Penobscot Nation based on historical sources and oral traditional information.

The second individual, represented by Field Museum catalog #49961, was removed from Whaleback Midden. Objects from the same assemblage suggest that the human remains most likely date to the post-contact period. The human remains are culturally affiliated to the Penobscot Nation based on historical sources and oral traditional information.

Determinations Made by the Field Museum of Natural History

Officials of the Field Museum of Natural History have determined that:

• Pursuant to 25 U.S.C. 3001(9), the human remains described in this notice represent the physical remains of two individuals of Native American ancestry.

• Pursuant to 25 U.S.C. 3001(2), there is a relationship of shared group identity that can be reasonably traced between the Native American human remains and the Penobscot Nation (previously listed as Penobscot Tribe of Maine).

Additional Requestors and Disposition

Lineal descendants or representatives of any Indian Tribe or Native Hawaiian organization not identified in this notice that wish to request transfer of control of these human remains should submit a written request with information in support of the request to Helen Robbins, Field Museum of Natural History, 1400 S Lake Shore Drive, Chicago, IL 60605, telephone (312) 665-7317, email hrobbins@fieldmuseum.org, by July 10, 2020. After that date, if no additional requestors have come forward, transfer of control of the human remains to the Penobscot Nation (previously listed as Penobscot Tribe of Maine) may proceed.

The Field Museum of Natural History is responsible for notifying The Consulted Tribes that this notice has been published.

Dated: May 15, 2020.
Melanie O'Brien,
Manager, National NAGPRA Program.

[FR Doc. 2020-12552 Filed 6-9-20; 8:45 am]

BILLING CODE 4312-52-P